DEPARTMENT OF COMMERCE

International Trade Administration

[A-570-932]

Certain Steel Threaded Rod From the People's Republic of China: Affirmative Final Determination of Circumvention of the Antidumping Duty Order

AGENCY: Import Administration, International Trade Administration, Department of Commerce.

SUMMARY: On December 4, 2012, the Department of Commerce (the “Department”) published the Preliminary Determination of the circumvention inquiry concerning the antidumping duty order on certain steel threaded rod (“steel threaded rod”) from the People's Republic of China (“PRC”).¹ The period of inquiry is April 1, 2010, through January 11, 2012. We gave interested parties an opportunity to comment on the Preliminary Determination. On December 31, 2012, Vulcan Threaded Products, Inc. (“Petitioner”) filed comments agreeing that the Department's Preliminary Determination is in accordance with law and supported by evidence on the record of this inquiry. No other party filed comments.

¹ See Certain Steel Threaded Rod From the People's Republic of China: Affirmative Preliminary Determination of Circumvention of the Antidumping Duty Order, 77 FR 71776 (December 4, 2012) (“Preliminary Determination”).

DATES: Effective Date: February 25, 2013.

FOR FURTHER INFORMATION CONTACT: Toni Dach, AD/CVD Operations, Office 9, Import Administration, International Trade Administration, Department of Commerce, 14th Street and Constitution Avenue NW., Washington, DC 20230; telephone: (202) 482-1655.

SUPPLEMENTARY INFORMATION:

Background

On December 4, 2012, the Department published the Preliminary Determination finding that imports from the PRC of steel threaded rod products with 1.25 percent or more chromium, by weight, produced by Gem-Year Industrial Co. Ltd. (“Gem-Year”), and otherwise meeting the description of in-scope merchandise, are subject to the order.² We invited interested parties to comment on the Preliminary Determination. The only party to comment was Petitioner, who agreed that the Preliminary Determination is in accordance with law and supported by evidence on the record of this inquiry. The Department has conducted this anticircumvention inquiry in accordance with section 781(c) of the Tariff Act of 1930, as amended (“the Act”), and 19 CFR 351.225.

² See Preliminary Determination; see also Certain Steel Threaded Rod from the People's Republic of China: Notice of Antidumping Duty Order, 74 FR 17154 (April 14, 2009).

Scope of the Order

The merchandise covered by the order is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to the order are non-headed and threaded along greater than 25 percent of their total length. A variety of finishes or coatings, such as plain oil finish as a temporary rust protectant, zinc coating (i.e., galvanized, whether by electroplating or hot-dipping), paint, and other similar finishes and coatings, may be applied to the merchandise.

Included in the scope of the order are steel threaded rod, bar, or studs, in which: (1) Iron predominates, by weight, over each of the other contained elements; (2) the carbon content is two percent or less, by weight; and (3) none of the elements listed below exceeds the quantity, by weight, respectively indicated:

• 1.80 percent of manganese, or

• 1.50 percent of silicon, or

• 1.00 percent of copper, or

• 0.50 percent of aluminum, or

• 1.25 percent of chromium, or

• 0.30 percent of cobalt, or

• 0.40 percent of lead, or

• 1.25 percent of nickel, or

• 0.30 percent of tungsten, or

• 0.012 percent of boron, or

• 0.10 percent of molybdenum, or

• 0.10 percent of niobium, or

• 0.41 percent of titanium, or

• 0.15 percent of vanadium, or

• 0.15 percent of zirconium.

Steel threaded rod is currently classifiable under subheading 7318.15.5051, 7318.15.5056, 7318.15.5090, and 7318.15.2095 of the United States Harmonized Tariff Schedule (“HTSUS”). Although the HTSUS subheading is provided for convenience and customs purposes, the written description of the merchandise is dispositive.

Excluded from the scope of the order are: (a) Threaded rod, bar, or studs which are threaded only on one or both ends and the threading covers 25 percent or less of the total length; and (b) threaded rod, bar, or studs made to American Society for Testing and Materials (“ASTM”) A193 Grade B7, ASTM A193 Grade B7M, ASTM A193 Grade B16, or ASTM A320 Grade L7.

Scope of the Circumvention Inquiry

The merchandise subject to this circumvention inquiry consists of steel threaded rod from the PRC produced by Gem-Year containing greater than 1.25 percent chromium, by weight, and otherwise meeting the requirements of the scope of the order as listed under the “Scope of the Order” section above.

Final Determination

In the Preliminary Determination, the Department found that imports from the PRC of steel threaded rod containing greater than 1.25 percent chromium, by weight, produced by Gem-Year, and otherwise meeting the description of in-scope merchandise, are subject to the antidumping duty order on steel threaded rod from the PRC. We continue to determine that imports from the PRC of steel threaded rod containing greater than 1.25 percent chromium, by weight, produced by Gem-Year, and otherwise meeting the description of in-scope merchandise, are subject to the antidumping duty order on steel threaded rod from the PRC. The Department will issue appropriate instructions to U.S. Customs and Border Protection (“CBP”) based on our final determination.

Continuation of Suspension of Liquidation

In accordance with 19 CFR 351.225(l)(3), we are directing CBP to continue to suspend liquidation of entries of merchandise subject to this inquiry produced by Gem-Year, and entered, or withdrawn from warehouse, for consumption on or after January 5, 2012, the date of the initiation of this inquiry. We will also instruct CBP to require a cash deposit of estimated duties at the applicable rates for each unliquidated entry of the product entered, or withdrawn from warehouse, for consumption on or after January 5, 2012, the date of the initiation of this inquiry, in accordance with 19 CFR 351.225(l)(3).

Notifications

This notice serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing this affirmative final determination of circumvention in accordance with sections 781(c) and 777(i) of the Act and 19 CFR 351.225.

Dated: February 13, 2013.
Paul Piquado,
Assistant Secretary for Import Administration.

[FR Doc. 2013-04151 Filed 2-22-13; 8:45 am]

BILLING CODE 3510-DS-P